INTERNATIONAL TRADE COMMISSION

[Investigations Nos. 701-TA-362 (Review) and 731-TA-707-710 (Review) and Investigations Nos. 701-TA-364 (Review) and 731-TA-711 and 731-TA-713-716 (Review)]

Seamless Pipe From Argentina, Brazil, Germany, and Italy and Oil Country Tubular Goods From Argentina, Italy, Japan, Korea, and Mexico

AGENCY: United States International Trade Commission.

ACTION: Notice of Commission determinations to conduct full five-year reviews concerning the countervailing duty order and antidumping duty orders on seamless pipe from Argentina, Brazil, Germany, and Italy and the countervailing duty order and antidumping duty orders on oil country tubular goods from Argentina, Italy, Japan, Korea, and Mexico.

SUMMARY: The Commission hereby gives notice that it will proceed with full reviews pursuant to section 751(c)(5) of the Tariff Act of 1930 (19 U.S.C. 1675(c)(5)) to determine whether revocation of the countervailing duty order and antidumping duty orders on seamless pipe from Argentina, Brazil, Germany, and Italy and the countervailing duty order and antidumping duty orders on oil country tubular goods from Argentina, Italy, Japan, Korea, and Mexico would be likely to lead to continuation or recurrence of material injury within a reasonably foreseeable time. The Commission is considering conducting the five-year reviews for seamless pipe from Argentina, Brazil, Germany, and Italy in conjunction with the five-year reviews for oil country tubular goods from Argentina, Italy, Japan, Korea, and Mexico due to similarities in the two sets of five-year reviews. A schedule for the reviews will be established and announced at a later date. For further information concerning the conduct of these reviews and rules of general application, consult the Commission's rules of practice and procedure, part 201, subparts A through E (19 CFR part 201), and part 207, subparts A, D, E, and F (19 CFR part 207).

EFFECTIVE DATE: October 5, 2000.

FOR FURTHER INFORMATION CONTACT: Vera Libeau (202-205-3176), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov).

SUPPLEMENTARY INFORMATION: On October 5, 2000, the Commission determined that it should proceed to full reviews in the subject five-year reviews pursuant to section 751(c)(5) of the Act. With regard to all subject seamless pipe from Argentina, Brazil, and Italy, the Commission found that both the domestic interested party group responses and the respondent interested party group responses to its notice of institution ¹ were adequate and voted to conduct full reviews. With regard to seamless pipe from Germany, the Commission found that the domestic interested party group response was adequate and the respondent interested party group response was inadequate. The Commission also found that other circumstances warranted conducting a full review. With regard to all subject oil country tubular goods from Argentina, Italy, Korea, and Mexico, the Commission found that both the domestic interested party group responses and the respondent interested party group responses to its notice of institution ² were adequate and voted to conduct full reviews. With regard to oil country tubular goods from Japan, the Commission found that the domestic interested party group response was adequate and the respondent interested party group response was inadequate. The Commission also found that other circumstances warranted conducting a full review.

¹ The notice of institution for all of the subject reviews was published in the Federal Register on July 3, 2000 (65 FR 41090).

² The notice of institution for all of the subject reviews was published in the Federal Register on July 3, 2000 (65 FR 41088).

A record of the Commissioners' votes, the Commission's statement on adequacy, and any individual Commissioner's statements will be available from the Office of the Secretary and at the Commission's web site.

Authority: These reviews are being conducted under authority of title VII of the Tariff Act of 1930; this notice is published pursuant to § 207.62 of the Commission's rules.

Issued: October 18, 2000.
By order of the Commission.
Donna R. Koehnke,
Secretary.

[FR Doc. 00-27425 Filed 10-24-00; 8:45 am]

BILLING CODE 7020-02-P